DEPARTMENT OF TRANSPORTATION

Federal Railroad Administration

[Docket No. FRA-2015-007-N-19]

Agency Request for Emergency Processing of Collection of Information by the Office of Management and Budget

AGENCY: Federal Railroad Administration (FRA), United States Department of Transportation (USDOT).

ACTION: Notice.

SUMMARY: FRA hereby gives notice that it is submitting the following Information Collection request (ICR) to the Office of Management and Budget (OMB) for emergency processing under the Paperwork Reduction Act of 1995. FRA requests that OMB authorize the collection of information identified by July 24, 2015, for a period of 180 days.

FOR FURTHER INFORMATION CONTACT: A copy of this individual ICR, with applicable supporting documentation, may be obtained by telephoning FRA's Office of Safety Clearance Officer: Robert Brogan (tel. (202) 493-6292) or FRA's Office of Administration Clearance Officer: Kimberly Toone (tel. (202) 493-6132) (these numbers are not toll-free); or by contacting Mr. Brogan via facsimile at (202) 493-6216 or Ms. Toone via facsimile at (202) 493-6497, or via email by contacting Mr. Brogan at Robert.Brogan@dot.gov; or by contacting Ms. Toone at Kim.Toone@dot.gov. Comments and questions about the ICR identified below should be directed to OMB's Office of Information and Regulatory Affairs, Attn: FRA OMB Desk Officer.

SUPPLEMENTARY INFORMATION: The statutory deadline for Positive Train Control (PTC) system implementation is December 31, 2015, less than 6 months away. Congress and FRA are concerned that the railroads will not make the statutory deadline. To date, the vast majority of railroads have not submitted, in accordance with 49 CFR 236.1009 and 236.1015, a PTC Safety Plan (PTCSP) and have not submitted, in accordance with 49 CFR 236.1035, a request for testing approval to support a PTCSP, which is necessary to achieve PTC System Certification and operate in revenue service. So that Congress and FRA may better understand the status of each railroad's implementation efforts, FRA is seeking accurate and current information, with periodic updates, under its investigative authority pursuant to 49 U.S.C. 20103, 20107, and 20902, and 49 CFR 236.1009(h). The railroads' responses will help inform FRA of the current PTC implementation status.

FRA is requesting Emergency processing approval by July 24, 2015, because FRA cannot reasonably comply with normal clearance procedures on account of use of normal clearance procedures is reasonably likely to disrupt the collection of information. The proposed collection of information is summarized below.

Title: Positive Train Control (PTC) Implementation Status Update Questionnaire.

Reporting Burden:

PTC implementation status update | Respondent universe | Total annual responses | Average time per response | Total annual burden hours
Questionnaire to be completed by railroads required to implement PTC | 38 Railroads | 456 Surveys | 10 minutes | 76

Form Number(s): N/A.

Respondent Universe: 38 Railroads.

Frequency of Submission: Monthly.

Total Estimated Responses: 456 Surveys.

Total Estimated Annual Burden: 380 hours.

Status: Emergency Review.

Pursuant to 44 U.S.C. 3507(a) and 5 CFR 320.5(b), 1320.8(b)(3)(vi), FRA informs all interested parties that it may not conduct or sponsor, and a respondent is not required to respond to, a collection of information unless it displays a currently valid OMB control number.

Authority: 44 U.S.C. 3501-3520.

Issued in Washington, DC, on July 15, 2015.
Rebecca Pennington,
Chief Financial Officer.

[FR Doc. 2015-17689 Filed 7-17-15; 8:45 am]

BILLING CODE 4910-06-P